DEPARTMENT OF HEALTH AND HUMAN SERVICES

Health Resources and Services Administration

[OMB No. 0915-0172—Revision]

Agency Information Collection Activities: Submission to OMB for Review and Approval; Public Comment Request; Title V Maternal and Child Health Services Block Grant to States Program: Guidance and Forms for the Title V Application/Annual Report

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than December 13, 2017.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Title V Maternal and Child Health Services Block Grant to States Program: Guidance and Forms for the Title V Application/Annual Report.

OMB No.: 0915-0172—Revision.

Abstract: HRSA is updating the Title V Maternal and Child Health Services Block Grant to States Program: Guidance and Forms for the Title V Application/Annual Report. This guidance is used annually by the 50 states and 9 jurisdictions in applying for Block Grants under Title V of the Social Security Act and in preparing the required annual report. The updates proposed by HRSA's Maternal and Child Health Bureau (MCHB) for this edition of the guidance are intended to reinforce the reporting structure and vision outlined in the previous edition and to reinforce the role of the state in developing a Title V Maternal and Child Health (MCH) Action Plan that responds to its unique priority needs. These updates are intended to enable a state to present an articulate and comprehensive description of its Title V program activities and leadership role in assuring a public health system for serving the MCH population. The proposed updates to the next edition of the guidance were informed by comments received from state Title V MCH program leadership, national MCH leaders, family-led organizations, other MCH stakeholders and the public. Publication of a 60-day Federal Register notice on June 9, 2017 at 82 FR 26810, generated comments on the proposed changes to the narrative reporting requirements, reporting forms, definitions, consolidation of the 15 National Performance Measures (NPMs) into five domains, re-titling of a sixth domain to “Cross-cutting and Systems Building,” reduction in the required number of state-selected NPMs and description of family partnerships.

Specific updates to this edition of the Title V Maternal and Child Health Services Block Grant to States Program: Guidance and Forms for the Title V Application/Annual Report include the following:

(1) The current performance measure framework is maintained, but the 15 National Performance Measures (NPMs) are now distributed within five population domains (i.e., (Women/Maternal Health; Perinatal/Infant Health; Child Health; Adolescent Health; and Children with Special Health Care Needs (CSHCN)).

(2) The Cross-cutting/Life Course domain is replaced by the Cross-cutting and Systems Building Domain, which is an optional domain for states to include as a State Performance Measure (SPM) for addressing an identified priority need that is not aligned with one or more of the five population health domains. The compound NPMs formerly included in the Cross-cutting/Life Course domain (i.e., NPM #13 and NPM #14), along with NPM #15, are incorporated into the most relevant population health domain(s).

(3) The required minimum number of NPMs to be selected by a state is reduced from eight to five. A state will select at least one NPM in each of the five population health domains, but a state can choose to select additional NPMs based on its current State Action Plan and identified priority needs.

(4) A state has flexibility in the number of SPMs it develops, provided each identified MCH priority need is addressed by either a NPM and/or SPM.

(5) The development and implementation of evidence-based and/or evidence-informed strategies and measures continues to be a point of focus and an enhanced definition of “evidence-based,” clarifying instructions and state examples of Evidence-based or -informed Strategy Measures are included.

(6) Clearer expectations around state Title V reporting on family are outlined, which include enhanced discussion of specific program activities, their impact on all sectors of the MCH population and their demonstrated value in improving MCH outcomes.

(7) Narrative reporting requirements around services for CSHCN are enhanced to allow each state to identify and define the components of its system of services. States are also encouraged to reflect on the impact of these services within the context of the identified priority needs and the measures selected for the State Action Plan.

(8) Further anticipated reductions to state burden are attained through more streamlined narrative reporting, particularly between the State Overview, Needs Assessment and State Action Plan sections; clearer descriptions of expected content in each of the narrative sections; and refined instructions for completing the data reporting forms. Notable among these updates is the restructuring of the State Action Plan narrative discussion to allow a state Title V program greater flexibility in describing its public health framework (e.g., life course model), leadership and partnership roles, cross-cutting strategies and the leveraging of resources.

It is recognized that the full extent of the anticipated burden reduction will be realized over time as states become more familiar with the updated instructions and reporting requirements. The burden estimates presented in the table below are based on previous burden estimates and consultations with a few states on the proposed updates. Once implemented, HRSA will explore opportunities for soliciting additional information from no more than nine states to derive accurate estimates.

Need and Proposed Use of the Information: Each year, all states and jurisdictions are required to submit an Application/Annual Report for Federal funds for their Title V MCH Services Block Grant to States Program to HRSA's MCHB (Section 505(a) of Title V of the Social Security Act). In addition, each state is required to conduct a statewide, comprehensive Needs Assessment every five years. The information and instructions for the preparation and submission of this Application/Annual Report are contained in the Title V Maternal and Child Health Services Block Grant to States Program: Guidance and Forms for the Title V Application/Annual Report.

Likely Respondents: By legislation (Section 505(a) of Title V of the Social Security Act), the MCH Block Grant application/annual report must be developed by, or in consultation with, the state MCH Health agency.

Burden Statement: Burden in this context means the time expended by persons to generate, maintain, retain, disclose, or provide the information requested. This estimate includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Burden per response (in hours) | Total burden hours
Application and Annual Report without 5-Year Needs Assessment Summary | 59 | 1 | 59 | 120 | 7,080
Application and Annual Report with 5-Year Needs Assessment Summary | 59 | 1 | 59 | 189 | 11,151
Average Total Annual Burden | 59 |  | 59 |  | * 8,437
* Reflects the average of one Application/Annual Report with a Five-Year Needs Assessment Summary and two Applications/Annual Reports without a Five-Year Needs Assessment Summary.

In fiscal year (FY) 2019 and FY 2020, states and jurisdictions will be submitting an application and annual report without a Five-year Needs Assessment Summary for a total estimated burden of 14,160 hours. In FY 2021, states and jurisdictions will be submitting an application and annual report with a five-year Needs Assessment Summary for a total estimated burden of 11,151 hours.

In deriving these estimates, HRSA contacted fewer than 10 states to discuss the level of burden associated with the development and submission of an application/annual Report under the current guidance. The burden estimates reflect the average level of burden necessary to meet the specified reporting requirements. States often report a range of burden hours due to the differences in their population size, program resources and the extensiveness of the processes they use to conduct their five-year Needs Assessment and to prepare the yearly MCH Block Grant Applications/Annual Reports. Continued enhancements to the electronic data entry system also contribute to reductions in state burden associated with the yearly preparation/submission of an application/annual Report.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy McNulty,
Acting Director, Division of the Executive Secretariat.

[FR Doc. 2017-24495 Filed 11-9-17; 8:45 am]

BILLING CODE 4165-15-P